DEPARTMENT OF HEALTH AND HUMAN SERVICES

National Institutes of Health

Center for Scientific Review; Amended Notice of Meeting

Notice is hereby given of a change in the meeting of the Center for Scientific Review Special Emphasis Panel: HAMI Hypersensitivity and Mucosal Immunology, July 10, 2024, 10:00 a.m. to July 11, 2024, 08:00 p.m., National Institutes of Health, Rockledge II, 6701 Rockledge Drive, Bethesda, MD 20892 which was published in the Federal Register on June 17, 2024, 89 FR 51355 Doc No. 2024-13252.

This notice is being amended to change the panel name from: HAMI Hypersensitivity and Mucosal Immunology to PAR Panel: Hypersensitivity, Allergies, and Mucosal Immunology (HAMI). The meeting is closed to the public.

Dated: June 25, 2024.
David W. Freeman,
Supervisory Program Analyst, Office of Federal Advisory Committee Policy.

[FR Doc. 2024-14252 Filed 6-27-24; 8:45 am]

BILLING CODE 4140-01-P